DEPARTMENT OF TRANSPORTATION

Federal Highway Administration

Notice of Final Federal Agency Actions on Proposed Highway Project in Wisconsin

AGENCY: Federal Highway Administration (FHWA), DOT.

ACTION: Notice of limitation on claims for judicial review of actions by FHWA.

SUMMARY: This notice announces actions taken by FHWA that are final within the meaning of 23 U.S.C. 139(l)(1). The actions relate to a proposed highway project, Interstate 94 (I-94) East-West Corridor, 70th Street to 16th Street, in Milwaukee County, Wisconsin. Those actions grant approvals for the project.

DATES: By this notice, FHWA is advising the public of final agency actions subject to 23 U.S.C. 139(l)(1). A claim seeking judicial review of the Federal agency actions on the highway project will be barred unless the claim is filed on or before March 6, 2017. If the Federal law that authorizes judicial review of a claim provides a time period of less than 150 days for filing such claim, then that shorter time period still applies.

FOR FURTHER INFORMATION CONTACT: Michael Davies, Division Administrator, FHWA Wisconsin Division Office, 525 Junction Road Suite 8000, Madison, Wisconsin 53717; telephone: (608) 829-7500; email: Wisconsin.FHWA@dot.gov. The FHWA Wisconsin Division's normal office hours are 7 a.m. to 4 p.m. central time. For the Wisconsin Department of Transportation (WisDOT): Jason Lynch, PE, Wisconsin Department of Transportation, Southeast Region, 141 NW Barstow Street, Waukesha, Wisconsin 53187; telephone: (414) 750-1803; email: jason.lynch@dot.wi.gov.

SUPPLEMENTARY INFORMATION: Notice is hereby given that FHWA has taken final agency actions subject to 23 U.S.C. 139(l)(1) by issuing approval for the following highway project: Interstate 94 (I-94) East-West Corridor, 70th Street to 16th Street, in Milwaukee County, Wisconsin, Wisconsin DOT Project I.D. 1060-27-00. The purpose of the project is to address the deteriorated condition of I-94, obsolete roadway and bridge design, existing and future traffic demand, and high crash rates along approximately 3.5 miles of I-94. The project includes reconstructing and adding a through lane along I-94 in each direction along its existing alignment; reconstructing the 68th/70th Street interchange; reconstructing the Hawley Road interchange as a partial interchange; closure of the Mitchell Boulevard interchange; reconfiguring the system interchange at I-94/WIS 175/Miller Park Way (Stadium Interchange) as a hybrid between a service interchange and a system interchange (including a local road connection to Mitchell Boulevard and modifying the WIS 175 interchange ramps at Wisconsin Avenue); reconstructing the 35th Street and 27th Street interchanges; and local roadway improvements to offset impacts to local traffic from interchange modifications.

The actions taken by FHWA on this project, and laws under which such actions were taken, are described in the Final Environmental Impact Statement (FEIS), approved on January 29, 2016, in the Record of Decision (ROD) issued on September 9, 2016, and in other documents in the FHWA or WisDOT project records. The FEIS, ROD, and other project records are available by contacting FHWA or WisDOT at the addresses provided above. The FEIS and ROD can also be viewed on the project Web site: http://wisconsindot.gov/Pages/projects/by-region/se/94stadiumint/default.aspx.

This notice applies to all Federal agency decisions as of the issuance date of this notice and all laws under which such actions were taken, including but not limited to:

1. General: National Environmental Policy Act (NEPA) [42 U.S.C. 4321-4351]; Federal-Aid Highway Act (FAHA) [23 U.S.C. 109, 23 U.S.C. 128, and 23 U.S.C 139].

2. Air: Clean Air Act [42 U.S.C. 7401- 7671(q)].

3. Land: Section 4(f) of the Department of Transportation Act of 1966 [23 U.S.C. 138 and 49 U.S.C. 303].

4. Wildlife: Endangered Species Act of 1973 [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act [25 U.S.C. 3001 et seq.].

6. Social and Economic: Civil Rights Act of 1964 [42 U.S.C. 2000(d) et. seq.]; Americans with Disabilities Act [42 U.S.C. 12101]; Uniform Relocation Assistance and Real Property Acquisition Act of 1970 [42 U.S.C. 4601 et seq. as amended by the Uniform Relocation Act Amendments of 1987 [Pub. L. 100-17].

7. Wetlands and Water Resources: Clean Water Act (Section 404, Section 401, Section 319) [33 U.S.C. 1251-1377]; Safe Drinking Water Act [42 U.S.C. 300(f)-300(j)(6)].

8. Hazardous Materials: Comprehensive Environmental Response, Compensation, and Liability Act of 1980 (CERCLA) as amended [42 U.S.C. 9601-9675]; Superfund Amendments and Reauthorization Act of 1986 [Pub. L. 99-499]; Resource Conservation and Recovery Act [42 U.S.C. 6901 et. seq.].

9. Executive Orders: E.O. 11990 Protection of Wetlands; E.O. 11988 Floodplain Management as amended by E.O. 12148 and E.O. 13690; E.O. 12898, Federal Actions to Address Environmental Justice in Minority Populations and Low Income Populations; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: September 23, 2016.
Michael Davies,
Division Administrator, FHWA Wisconsin Division, Madison, Wisconsin.

[FR Doc. 2016-23785 Filed 10-6-16; 8:45 am]

BILLING CODE 4910-22-P